FEDERAL MINE SAFETY AND HEALTH REVIEW COMMISSION

Sunshine Act; Meeting

July 7, 2005.

Time and Date: 10: a.m., Thursday, July 14, 2005.

Place: The Richard V. Backley Hearing Room, 9th Floor, 601 New Jersey Avenue, NW., Washington, DC.

Status: Open.

Matters to be Considered: The Commission will consider and act upon the following in open session: Secretary of Labor v. National Cement Co. of California, Inc., Docket No. WEST 2004-182-RM. (Issues include whether the judge properly granted summary decision in favor of the Secretary finding that the road that accesses the operator's cement plant falls within the definition of “coal or other mine” as this term is used in section 3(h)(1) of the Federal Mine Safety and Health Act of 1977, 30 U.S.C. 802(h)(1)).

Any person attending this meeting who requires special accessibility features and/or auxiliary aids, such as sign language interpreters, must inform the Commission in advance of those needs, subject to 29 CFR 2706.150(a)(3) and § 2706.160(d).

Contact Person For More Information: Jean Ellen, (202) 434-9950/(202) 708-9300 for TDD Relay/1-800-877-8339 for toll free.

Jean H. Ellen,
Chief Docket Clerk.

[FR Doc. 05-13966 Filed 7-12-05; 12:16 pm]

BILLING CODE 6735-01-M